DEPARTMENT OF THE TREASURY

Internal Revenue Service

Renewable Charter and Filing Letters; Correction

AGENCY: Internal Revenue Service (IRS); Tax Exempt and Government Entities Division.

ACTION: Correction to a notice of Renewal Charter and Filing Letters.

SUMMARY: This document contains a correction to a notice of renewal charter and filing letters, which was filed and available for public inspection with the Office of the Federal Register on June 24, 2009 and published on June 25, 2009. The renewal charter was filed on June 16, 2009, with the Committee on Finance of the United States Senate, the Committee on Ways and Means of the U.S. House of Representatives, and the Library of Congress.

SUPPLEMENTARY INFORMATION:

Need for Correction

As submitted to the Federal Register, the renewal charter is missing as well as the previously mentioned filing letters.

Correction of Filing

Accordingly, the filing of the renewal charter is corrected by including the charter and the charter's filing letters.

Dated: June 24, 2009.
Steven J. Pyrek,
Designated Federal Official, Tax Exempt and Government Entities Division, Internal Revenue Service.

BILLING CODE 4830-01-P

[FR Doc. E9-15428 Filed 6-25-09; 4:15 pm]

BILLING CODE 4830-01-C